DEPARTMENT OF TRANSPORTATION

Federal Aviation Administration

Tenth RTCA SC-233 Plenary

AGENCY: Federal Aviation Administration (FAA), U.S. Department of Transportation (DOT).

ACTION: Tenth RTCA SC-233 Plenary.

SUMMARY: The FAA is issuing this notice to advise the public of a meeting of Tenth RTCA SC-233 Plenary

DATES: The meeting will be held July 13, 2017 from 10:00 a.m.-11:00 a.m.

ADDRESSES: The meeting will be held at: RTCA Headquarters, 1150 18th Street NW., Suite 910, Washington, DC 20036.

FOR FURTHER INFORMATION CONTACT: Rebecca Morrison at rmorrison@rtca.org or 202-330-0654, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Tenth RTCA SC-233 Plenary. The agenda will include the following:

Thursday, July 13, 2017, 10:00 a.m.-11:00 a.m.

1. Introduction, Upcoming PMC Dates and Deliverable

2. February 2017 Minutes Approval

3. Consider a motion to submit the document to Final Review and Comment

4. Other Business

5. Action Items

6. Review of key dates

7. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on June 15, 2017.
Mohannad Dawoud,
Management & Program Analyst, Partnership Contracts Branch, ANG-A17 NextGen, Procurement Services Division,Federal Aviation Administration.

[FR Doc. 2017-12852 Filed 6-19-17; 8:45 am]

BILLING CODE 4910-13-P